DEPARTMENT OF THE INTERIOR

National Park Service

[NPS-WASO-NAGPRA-12550;PPWOCRADN0-PCU00RP14.R50000]

Notice of Inventory Completion: U.S. Department of the Interior, National Park Service, Grand Canyon National Park, Grand Canyon, AZ

AGENCY: National Park Service, Interior.

ACTION: Notice.

SUMMARY: The U.S. Department of the Interior, National Park Service, Grand Canyon National Park has completed an inventory of human remains and associated funerary objects, in consultation with the appropriate Indian tribes, and has determined that there is a cultural affiliation between the human remains and associated funerary objects and present-day Indian tribes. Representatives of any Indian tribe that believes itself to be culturally affiliated with the human remains and associated funerary objects may contact Grand Canyon National Park. Repatriation of the human remains and associated funerary objects to the Indian tribes stated below may occur if no additional claimants come forward.

DATES: Representatives of any Indian tribe that believes it has a cultural affiliation with the human remains and associated funerary objects should contact Grand Canyon National Park at the address below by May 10, 2013.

ADDRESSES: David Uberuaga, Superintendent, Grand Canyon National Park, P.O. Box 129, Grand Canyon, AZ 86023, telephone (928) 638-7945.

SUPPLEMENTARY INFORMATION: Notice is here given in accordance with the Native American Graves Protection and Repatriation Act (NAGPRA), 25 U.S.C. 3003, of the completion of an inventory of human remains and associated funerary objects in the possession of Grand Canyon National Park, Grand Canyon, AZ. The human remains and associated funerary objects were removed from within Grand Canyon National Park, Coconino County, AZ.

This notice is published as part of the National Park Service's administrative responsibilities under NAGPRA, 25 U.S.C. 3003(d)(3). The determinations in this notice are the sole responsibility of the Superintendent, Grand Canyon National Park.

Consultation

A detailed assessment of the human remains was made by Grand Canyon National Park professional staff in consultation with representatives of the Havasupai Tribe of the Havasupai Reservation, Arizona; Hopi Tribe of Arizona; Hualapai Indian Tribe of the Hualapai Indian Reservation, Arizona; Kaibab Band of Paiute Indians of the Kaibab Indian Reservation, Arizona; Las Vegas Tribe of Paiute Indians of the Las Vegas Indian Colony, Nevada; Moapa Band of Paiute Indians of the Moapa River Indian Reservation, Nevada; Navajo Nation, Arizona, New Mexico, & Utah; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); San Juan Southern Paiute Tribe of Arizona; White Mountain Apache Tribe of the Fort Apache Reservation, Arizona; Yavapai-Apache Nation of the Camp Verde Indian Reservation, Arizona; and Zuni Tribe of the Zuni Reservation, New Mexico (hereafter referred to as “The Tribes”).

History and Description of the Remains

In 1970, human remains representing a minimum of two individuals were removed from the Bright Angel site in Coconino County, AZ, during legally authorized excavations under the direction of Douglas W. Schwartz on behalf of the School of American Research. No known individuals were identified. The human remains were curated at Arizona State University until 2008, when they were returned to Grand Canyon National Park. No associated funerary objects are present.

In 1977, human remains representing a minimum of one individual were removed from AZ B:16:85 in Coconino County, AZ, during legally authorized excavations by former Grand Canyon anthropologist Robert C. Euler. The human remains and associated funerary objects were curated by the University of Arizona, Tucson, AZ until 1986, when they were transferred to Grand Canyon National Park. No known individuals were identified. The 12 associated funerary objects are 1 bag of yucca cordage, 1 vegetal fiber cordage net, 1 bag of juniper bark, 5 basketry fragments, 1 fragment of a Deadman's Black-on-red ceramic bowl, and 3 Tusayan Gray Ware sherds.

AZ B:16:85 is a rock crevice likely associated with the nearby Bright Angel site, dated between A.D. 1050 and 1140.

In 1982, human remains representing a minimum of one individual were removed from the Bright Angel site in Coconino County, AZ, during legally authorized excavations by former Grand Canyon anthropologist Robert C. Euler. No known individuals were identified. Some of the human remains were first held at the School of American Research, transferred to the National Park Service's Western Archeological and Conservation Center in Tucson, AZ, in 1989, and then transferred to Grand Canyon National Park in 2006. The rest have been held at Grand Canyon National Park since excavation. The funerary objects were transferred from Robert C. Euler to Grand Canyon National Park in 1986. The 13 associated funerary objects are 1 Tusayan corrugated ceramic jar, 1 incomplete olivella shell bead, and 11 stone beads.

Site architecture, ceramic typology, cross-dating, and tools indicate that the site was occupied by ancestral Puebloan peoples between A.D. 1050 and 1140.

Architectural similarities, material culture, geography, and oral histories indicate close cultural and historical ties between the ancestral Puebloan peoples and the Hopi Tribe of Arizona and Zuni Tribe of the Zuni Indian Reservation, New Mexico.

Determinations Made by Grand Canyon National Park

Officials of Grand Canyon National Park have determined that:

• Pursuant to 25 U.S.C. 3001(9), the human remains described in this notice represent the physical remains of four individuals of Native American ancestry.

• Pursuant to 25 U.S.C. 3001(3)(A), the 25 objects described above are reasonably believed to have been placed with or near individual human remains at the time of death or later as part of the death rite or ceremony.

• Pursuant to 25 U.S.C. 3001(2), there is a relationship of shared group identity that can be reasonably traced between the Native American human remains and associated funerary objects and the Hopi Tribe of Arizona and Zuni Tribe of the Zuni Reservation, New Mexico.

Additional Requestors and Disposition

Representatives of any Indian tribe that believes itself to be culturally affiliated with the human remains and associated funerary objects should contact David Uberuaga, Superintendent, Grand Canyon National Park, P.O. Box 129, Grand Canyon, AZ 86023, telephone (928) 638-7945, before May 10, 2013. Repatriation of the human remains and associated funerary objects to the Hopi Tribe of Arizona and Zuni Tribe of the Zuni Reservation, New Mexico may proceed after that date if no additional claimants come forward.

Grand Canyon National Park is responsible for notifying The Tribes that this notice has been published.

Dated: March 11, 2013.
Sherry Hutt,
Manager, National NAGPRA Program.

[FR Doc. 2013-08378 Filed 4-9-13; 8:45 am]

BILLING CODE 4312-50-P